GENERAL SERVICES ADMINISTRATION

Federal Management Regulation (FMR); Motor Vehicle Management; Notice of GSA Bulletin FMR B-22

AGENCY: Office of Governmentwide Policy, General Services Administration (GSA).

ACTION: Notice of a bulletin.

SUMMARY: This notice announces Federal Management Regulation (FMR) Bulletin B-22. Bulletin B-22 provides a deviation from the FMR to allow executive agencies to purchase premium fuel for Government owned and leased vehicles when lower grade fuels are not available due to possible nationwide market shortages due to refinery damage caused by Hurricane Ike. GSA Bulletin FMR B-22 may be found at www.gsa.gov/bulletin.

DATES: The bulletin announced in this notice became effective on September 13, 2008.

FOR FURTHER INFORMATION CONTACT: For clarification of content, contact General Services Administration, Office of Governmentwide Policy, Office of Travel, Transportation and Asset Management, at (202) 501-1777. Please cite Bulletin FMR B-22.

SUPPLEMENTARY INFORMATION:

A. Background

The Federal Management Regulation (FMR), Subpart B, section 102-34.335 (41 CFR 102-34.335), requires drivers to use the grade (octane rating) of fuel recommended by the motor vehicle manufacturer when fueling motor vehicles owned or leased by the Government. Present restrictions prohibit the use of premium grade fuel in motor vehicles owned or leased by the Government that will operate on a lower grade of fuel.

As a result of Hurricane Ike, executive agencies may encounter nationwide fuel shortages and may not be able to acquire lower grade fuel for their vehicles to complete their missions. The original intent of FMR section 102-34.335 was to reduce fuel costs and the unnecessary use of premium fuel in vehicles capable of being operated on lower grade fuel. FMR Bulletin, B-22, provides a deviation for executive agencies to purchase premium fuel for Government owned and leased vehicles when lower grade fuels are not available due to market shortages due to Hurricane Ike.

B. Procedures

Bulletins regarding motor vehicle management are located on the Internet at www.gsa.gov/bulletin as Federal Management Regulation bulletins.

Dated: September 16, 2008.
Becky Rhodes,
Deputy Associate Administrator.

[FR Doc. E8-22643 Filed 9-25-08; 8:45 am]

BILLING CODE 6820-14-S